FEDERAL COMMUNICATIONS COMMISSION

47 CFR Part 73

[DA 08-1407; MB Docket No. 04-409; RM-11108, RM-11234]

Radio Broadcasting Services; Chester, VA; Fruitland, MD; Lakeside, VA; Port Norris, NJ; Warsaw, VA and Willards, MD

AGENCY: Federal Communications Commission.

ACTION: Final rule; denial.

SUMMARY: This document denies two petitions for reconsideration directed to the Report and Order in this proceeding, filed by MainQuad Communications, licensee of Station WARV(FM), Petersburg, Virginia, and Port Norris Radio. CXR Holdings, Inc., licensee of Station WDYL(FM), Chester, Virginia, prevailing counterproponent in the Report and Order, opposed the petitions for reconsideration.

ADDRESSES: Secretary, Federal Communications Commission, 445 Twelfth Street, SW., Washington, DC 20554.

FOR FURTHER INFORMATION CONTACT: Victoria M. McCauley, Media Bureau, (202) 418-2180.

SUPPLEMENTARY INFORMATION: This is a synopsis of the Commission's Memorandum Opinion and Order, MB Docket No. 04-409, adopted June 11, 2008, and released June 13, 2008. This document denies two petitions for reconsideration of the Report and Order 71 FR 64153 (November 1, 2006). The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will not send a copy of this Memorandum Opinion and Order pursuant to the Congressional Review Act, see 5 U.S.C. 801(a)(1)(A), because the petition for reconsideration was denied.

List of Subjects in 47 CFR Part 73

Radio, Radio broadcasting.

Federal Communications Commission.
John A. Karousos,
Assistant Chief, Audio Division, Media Bureau.

[FR Doc. E8-14642 Filed 6-27-08; 8:45 am]

BILLING CODE 6712-01-P